DEPARTMENT OF COMMERCE

International Trade Administration

[A-570-848]

Notice of Preliminary Results of Antidumping Duty New Shipper Review and Rescission of New Shipper Reviews: Freshwater Crawfish Tail Meat From the People's Republic of China

AGENCY: Import Administration, International Trade Administration, Department of Commerce.

SUMMARY: In response to timely and properly filed requests from Qingdao Xiyuan Refrigerate Food Co., Ltd. (Qingdao Xiyuan), Yancheng Fuda Foods Co., Ltd. (Yancheng Fuda), and Siyang Foreign Trade Corporation (Siyang), the Department of Commerce (the Department) initiated new shipper reviews of the antidumping duty order on freshwater crawfish tail meat from the People's Republic of China (PRC). We preliminarily determine that Qingdao Xiyuan has made sales in the United States at prices below normal value (NV). We invite interested parties to comment on these preliminary results. In addition, the Department is rescinding the new shipper reviews for Yancheng Fuda and Siyang.

EFFECTIVE DATE: September 2, 2004.

FOR FURTHER INFORMATION CONTACT: Scot Fullerton or Matthew Renkey, Office of AD/CVD Enforcement VI, Import Administration, International Trade Administration, U.S. Department of Commerce, 14th Street and Constitution Avenue, NW., Washington, DC 20230; telephone: (202) 482-1386 or (202) 482-2312, respectively.

Background

The Department published in the Federal Register an antidumping duty order on freshwater crawfish tail meat from the PRC on September 15, 1997. See Notice of Amendment to Final Determination of Sales at Less Than Fair Value and Antidumping Duty Order: Freshwater Crawfish Tail Meat From the People's Republic of China, 62 FR 48218. As noted above, the Department received timely requests for a new shipper review under the antidumping duty order on freshwater crawfish tail meat from the PRC in accordance with section 751(a)(2)(B) of the Tariff Act of 1930, as amended (the Act), and § 351.214(c) of the Department's regulations, from Qingdao Xiyuan, Yancheng Fuda, and Siyang. In their requests, Yancheng Fuda and Qingdao Xiyuan stated that they produced the crawfish tail meat exported for their new shipper sales. In its request, Siyang stated that it purchased the crawfish tail meat it exported from an unaffiliated producer. On October 31, 2003, the Department initiated these new shipper reviews for the period September 1, 2002, through August 31, 2003, for Qingdao Xiyuan and Yancheng Fuda, and for the period July 1, 2002 through August 31, 2003, for Siyang. See Freshwater Crawfish Tail Meat From the People's Republic of China: Initiation of Antidumping Duty New Shipper Reviews, 68 FR 62774 (November 6, 2003).

On November 25, 2003, the Domestic Interested Parties requested that the Department determine whether antidumping duties had been absorbed during the period of review (POR), in accordance with section 751(a)(4) of the Act. We find that section 751(a)(4) of the Act is not applicable to these reviews, and accordingly, we did not determine whether antidumping duties had been absorbed during the POR. See Memorandum to File From Matthew Renkey Through Maureen Flannery, Duty Absorption Request From the Domestic Interested Parties in Three New Shipper Reviews, dated August 26, 2004.

On April 27, 2004, the Department extended the time limit for the completion of the preliminary results until July 30, 2004. See Notice of Extension of Time Limit of Preliminary Results of New Shipper Reviews: Freshwater Crawfish Tail Meat From the People's Republic of China, 69 FR 24567 (May 4, 2004). On July 29, 2004, the Department further extended the time limit for the completion of the preliminary results until August 26, 2004. See Notice of Extension of Time Limit of Preliminary Results of New Shipper Reviews: Freshwater Crawfish Tail Meat From the People's Republic of China, 69 FR 47080 (August 4, 2004).

Scope of the Antidumping Duty Order

The product covered by this antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the new HTSUS numbers for prepared foodstuffs, indicating peeled crawfish tail meat and other, as introduced by U.S. Customs and Border Protection (CBP) in 2000, and HTSUS items 0306.19.00.10 and 0306.29.00, which are reserved for fish and crustaceans in general. The HTSUS subheadings are provided for convenience and CBP purposes only. The written description of the scope of this order is dispositive.

Rescission of New Shipper Reviews

A new shipper request from an exporter in a non-market economy (NME) country must contain a certification that the exporter is not controlled by the central government (see § 351.214(b)(2)(iii)(B) of the Department's regulations) and, thus, that it is not part of the NME entity, which was subject to the original investigation, and is eligible for a separate rate. During the course of a new shipper review, the exporter must affirmatively demonstrate that it meets the Department's criteria for receiving a separate rate. As discussed in detail below, we have found that neither Yancheng Fuda nor Siyang demonstrated that it meets the criteria for a separate rate, and as such, we are rescinding these new shipper reviews.

Yancheng Fuda

On November 19, 2003, the Department issued its antidumping questionnaire to Yancheng Fuda. The Department's questionnaire contained instructions for preparing and filing Yancheng Fuda's response. Yancheng Fuda's initial questionnaire response was due on January 5, 2004. On January 6, 2004, Yancheng Fuda's counsel, who filed the request for review on Yancheng Fuda's behalf, informed the Department that it was withdrawing its representation of Yancheng Fuda. On March 3, 2004, the Department sent a letter to Yancheng Fuda noting that it had received neither a response to the questionnaire nor any correspondence from Yancheng Fuda, and requesting that Yancheng Fuda contact the Department immediately if it intended to participate in the new shipper review.

On March 16, 2004, Yancheng Fuda contacted the Department and requested an extension to file its questionnaire response. On March 17, 2004, the Department granted Yancheng Fuda an extension until March 29, 2004, to properly file its questionnaire response. On March 26, 2004, Yancheng Fuda faxed a questionnaire response directly to the Department, without serving parties, without filing the requisite number of copies with the Central Records Unit (CRU), and without an indication as to whether its response contained business proprietary information. The response appeared to be a draft response, as Yancheng Fuda asked that the Department “check it,” and further indicated that it would later “mail the original finished questionnaire” to the Department. On the same day, the Department faxed to Yancheng Fuda a letter explaining that the Department does not accept draft questionnaire responses, and reminding Yancheng Fuda that its questionnaire response must be filed in accordance with the Department's regulations, which were provided to Yancheng Fuda on March 17, 2004, via Federal Express and March 18, 2004, via fax. The Department provided the regulations and instructions again on March 26, 2004, via fax. In this letter, the Department granted Yancheng Fuda an additional extension until March 30, 2004, to properly file its questionnaire response.

On March 30, 2004, the Department received, via Federal Express, the same draft questionnaire response received on March 26, 2004. As this questionnaire response was not filed in accordance with the Department's filing requirements, copies of this document were not placed on the record for this review. See Memorandum to File From Scot Fullerton Through Maureen Flannery to File, Yancheng Fuda Foods Co., Ltd. Improperly Filed Letters and Questionnaire Response, dated April 19, 2004.

On April 28, 2004, the Department received a questionnaire response filed by a law firm on behalf of Yancheng Fuda. Given the extensive amount of time which had lapsed since the initial due date for the response, and the subsequent extensions given to Yancheng Fuda, the Department found that the questionnaire response submitted on April 28, 2004, was not timely filed.

As mentioned above, in order to be eligible for a new shipper review, a company is required to certify in its request that it is not controlled by the central government. See § 351.214(b)(2)(iii)(B) of the Department's regulations. While Yancheng Fuda did provide such a certification that served as the basis for initiation, it did not provide a timely questionnaire response. Absent a questionnaire response, the Department is unable to determine whether Yancheng Fuda meets the requirements for receiving a separate rate. Because the Department is unable to confirm that Yancheng Fuda is eligible for a separate rate, it must continue to consider Yancheng Fuda to be part of the NME entity. Consistent with the Department's practice, we have therefore determined that Yancheng Fuda does not qualify as a new shipper under § 351.214(a) of the Department's regulations because it is part of an entity that shipped during the original period of investigation. See, e.g., Brake Rotors From the People's Republic of China: Rescission of Second New Shipper Review and Final Results and Partial Rescission of First Antidumping Duty Administrative Review, 64 FR 61581 (November 12, 1999) (Brake Rotors). On August 12, 2004, we issued a memorandum stating our intent to rescind the new shipper review for Yancheng Fuda because it had not demonstrated its eligiblity for a separate rate. See Memorandum From Barbara E. Tillman to Jeffrey A. May: Freshwater Crawfish Tail Meat From The People's Republic of China: Intent To Rescind the New Shipper Review of Yancheng Fuda Foods Co., Ltd., dated August 12, 2004. We allowed interested parties an opportunity to comment, but received no comments. Accordingly, we are rescinding the new shipper review of Yancheng Fuda.

Siyang

On November 19, 2003, the Department issued its antidumping questionnaire to Siyang. Siyang's initial questionnaire response was due on January 5, 2004. On January 5, 2004, the Department granted Siyang an extension to file its questionnaire response, and on January 21, 2004, Siyang submitted a response to sections A, C, and D of the Department's questionnaire. On May 7, 2004, the Department issued a supplemental questionnaire to Siyang; Siyang filed its response to the supplemental questionnaire on May 24, 2004. On June 2, 2004, Siyang submitted a letter to the Department stating that Siyang and its supplier would not participate in verification for this new shipper review.

As mentioned above, in order to be eligible for a new shipper review, a company is required to certify in its request that it is not controlled by the central government. See § 351.214(b)(2)(iii)(B) of the Department's regulations. While Siyang did provide such a certification that served as the basis for initiation, it did not permit verification of its questionnaire responses. Absent the ability to conduct verification, the Department is unable to determine whether Siyang meets the requirements for receiving a separate rate. Therefore, because the Department is unable to confirm that Siyang is eligible for a separate rate, it must continue to consider Siyang part of the NME entity. Consistent with the Department's practice, we have therefore determined that Siyang does not qualify as a new shipper under § 351.214(a) of the Department's regulations because it is part of an entity that shipped during the original period of investigation. See, e.g., Brake Rotors. On August 12, 2004, we issued a memorandum stating our intent to rescind the new shipper review for Siyang because it had not demonstrated its eligibility for a separate rate. See Memorandum From Barbara E. Tillman to Jeffrey A. May: Freshwater Crawfish Tail Meat From The People's Republic of China: Intent To Rescind the New Shipper Review of Siyang Foreign Trade Corporation, dated August 12, 2004. We allowed interested parties an opportunity to comment, but received no comments. Accordingly, we are rescinding the new shipper review of Siyang.

Analysis for Qingdao Xiyuan

Separate Rates

Qingdao Xiyuan requested a separate, company-specific rate and properly certified in its request for a new shipper review that it was not controlled by the central government. See § 351.214(b)(2)(iii)(B) of the Department's regulations. Qingdao Xiyuan provided separate rate information in its questionnaire response. Accordingly, we performed a separate-rate analysis to determine whether Qingdao Xiyuan is independent from government control. See Notice of Final Determination of Sales at Less Than Fair Value: Bicycles From the People's Republic of China, 61 FR 56570 (April 30, 1996).

The Department has treated the PRC as an NME country in all past antidumping investigations and in prior segments of this proceeding. See, e.g., Notice of Final Determination of Sales at Less Than Fair Value: Bulk Aspirin From the People's Republic of China, 65 FR 33805 (May 25, 2000), and Notice of Final Determination of Sales at Less Than Fair Value: Certain Non-Frozen Apple Juice Concentrate From the People's Republic of China, 65 FR 19873 (April 13, 2000). A designation as an NME remains in effect until it is revoked by the Department. See section 771(18)(C) of the Act. Accordingly, there is a rebuttable presumption that all companies within the PRC are subject to government control and, thus, should be assessed a single antidumping duty rate.

It is the Department's standard policy to assign all exporters of the merchandise subject to review in NME countries a single rate unless an exporter can affirmatively demonstrate an absence of government control, both in law (de jure) and in fact (de facto), with respect to exports. To establish whether a company is sufficiently independent to be eligible for a separate, company-specific rate, the Department analyzes each exporting entity in an NME country under the test established in the Final Determination of Sales at Less Than Fair Value: Sparklers From the People's Republic of China, 56 FR 20588 (May 6, 1991) (Sparklers), as amplified by the Notice of Final Determination of Sales at Less Than Fair Value: Silicon Carbide From the People's Republic of China, 59 FR 22585 (May 2, 1994) (Silicon Carbide). Under this policy, exporters in NMEs are eligible for separate, company-specific margins when they can demonstrate an absence of government control, in law and in fact, with respect to export activities. Evidence supporting, though not requiring, a finding of de jure absence of government control over export activities includes: (1) An absence of restrictive stipulations associated with an individual exporter's business and export licenses; (2) any legislative enactments decentralizing control of companies; and (3) any other formal measures by the government decentralizing control of companies. De facto absence of government control over exports is based on four factors: (1) Whether each exporter sets its own export prices independently of the government and without the approval of a government authority; (2) whether each exporter retains the proceeds from its sales and makes independent decisions regarding the disposition of profits or financing of losses; (3) whether each exporter has the authority to negotiate and sign contracts and other agreements; and (4) whether each exporter has autonomy from the government regarding the selection of management.

With respect to the absence of de jure government control over the export activities of the company reviewed, evidence on the record supports the claim made by Qingdao Xiyuan that its export activities are not controlled by the government. Qingdao Xiyuan submitted evidence of its legal right to set prices independently of all government oversight. The business license of Qingdao Xiyuan indicates that the company is permitted to engage in the exportation of crawfish. We found no evidence of de jure government control restricting this company's exportation of crawfish.

There are no export quotas that apply to crawfish. Prior verifications have confirmed that there are no commodity-specific export licenses required and no quotas for the seafood category “Other,” which includes crawfish, in China's Tariff and Non-Tariff Handbook for 1996. In addition, we have previously confirmed that crawfish is not on the list of commodities with planned quotas in the 1992 PRC Ministry of Foreign Trade and Economic Cooperation document entitled Temporary Provisions for Administration of Export Commodities. See e.g., Freshwater Crawfish Tail Meat From The People's Republic of China; Preliminary Results of New Shipper Review, 64 FR 8543 (February 22, 1999) and Freshwater Crawfish Tail Meat From the People's Republic of China; Final Results of New Shipper Review, 64 FR 27961 (May 24, 1999).

Qingdao Xiyuan submitted, for the record of this review, the Foreign Trade Law of the People's Republic of China (Foreign Trade Law), adopted by the Seventh Meeting of the Standing Committee of the Eighth National People's Congress (effective on July 1, 1994). The Foreign Trade Law indicates a lack of de jure government control over privately-owned companies, such as Qingdao Xiyuan. The Foreign Trade Law regulations state that “foreign trade operators shall in accordance with law enjoy full autonomy in their management and shall be responsible for their own profits and losses.” See Notice of Final Determination of Sales at Less Than Fair Value; Manganese Metal from the People's Republic of China, 60 FR 56045 (November 6, 1995). Therefore, we preliminarily determine that there is an absence of de jure control over export activity with respect to Qingdao Xiyuan.

With respect to the absence of de facto control over export activities, the information submitted on the record indicates that the management of Qingdao Xiyuan is responsible for the determination of export prices, profit distribution, marketing strategy, and contract negotiations. Our analysis indicates that there is no government involvement in the daily operations or the selection of management for this company. In addition, we have found that Qingdao Xiyuan's pricing and export strategy decisions are not subject to the review or approval of any outside entity, and that there are no governmental policy directives that affect these decisions.

There are no restrictions on the use of export earnings. The general manager of Qingdao Xiyuan has the right to negotiate and enter into contracts, and may delegate this authority to employees within the company. There is no evidence that this authority is subject to any level of governmental approval. Qingdao Xiyuan reported that its management is selected by a board of directors and there is no government involvement in the selection process. Finally, decisions made by the respondent concerning purchases of subject merchandise from suppliers are not subject to government approval. Consequently, because evidence on the record indicates an absence of government control, both in law and in fact, over the company's export activities, we preliminarily determine that a separate rate should be applied to Qingdao Xiyuan.

Normal Value Comparisons

To determine whether Qingdao Xiyuan's sales of the subject merchandise to the United States were made at a price below NV, we compared its United States price to NV, as described in the “United States Price” and “Normal Value” sections of this notice.

United States Price

Based on the information we have gathered to date, we preliminarily find Qingdao Xiyuan's sales to be bona fide. However, we will continue to analyze this issue for purposes of the final results of review. For a discussion of our analysis, which is primarily based on business proprietary information, See Memorandum to the File through Maureen Flannery from Scot Fullerton entitled Bona Fide Nature of the Sale in the New Shipper Review of Qingdao Xiyuan Refrigerate Food Co., Ltd., dated August 26, 2004. A public version of this Memorandum is on file in the CRU.

We based the United States price on export price (EP), in accordance with section 772(a) of the Act, because the first sale to an unaffiliated purchaser was made prior to importation, and constructed export price (CEP) was not otherwise warranted by the facts on the record. We calculated EP based on the packed price from the exporter to the first unaffiliated purchaser in the United States. We deducted foreign inland freight and international freight from the starting price (gross unit price) in accordance with section 772(c) of the Act. Qingdao Xiyuan reported the actual international freight expense it incurred since it used a market economy carrier and paid in U.S. dollars. Qingdao Xiyuan also reported that this international freight charge included brokerage and handling, so we have not made a separate deduction for brokerage and handling.

Normal Value

1. Surrogate Country

When reviewing imports from an NME country, section 773(c)(1) of the Act directs the Department to base NV, in most circumstances, on the NME producer's factors of production valued in a surrogate market-economy country or countries considered to be appropriate by the Department. In accordance with section 773(c)(4) of the Act, in valuing the factors of production, the Department shall use, to the extent practicable, the prices or costs of factors of production in one or more market-economy countries that are at a level of economic development comparable to the NME country and are significant producers of comparable merchandise. The sources of the surrogate factor values are discussed under the “Factor Valuations” section below.

We calculated NV based on factors of production in accordance with section 773(c)(4) of the Act and § 351.408(c) of our regulations. Consistent with the original investigation and the subsequent administrative reviews of this order, we determined that India (1) is comparable to the PRC in level of economic development, and (2) is a significant producer of comparable merchandise, processed seafood. See Memorandum to the File from Matthew Renkey through Maureen Flannery: Surrogate Values Used for the Preliminary Results of the Antidumping Duty New Shipper Review of Freshwater Crawfish Tail Meat From the People's Republic of China, dated August 26, 2004 (Surrogate Values Memo). This Memorandum is on file in the CRU.

2. Factors of Production

Section 773(c)(1) of the Act provides that the Department shall determine NV using a factors-of-production methodology if (1) the merchandise is exported from an NME country, and (2) available information does not permit the calculation of NV using home-market prices, third-country prices, or constructed value under section 773(a) of the Act. Factors of production include the following elements: (1) Hours of labor required, (2) quantities of raw materials employed, (3) amounts of energy and other utilities consumed, and (4) representative capital costs. We used the reported factors of production for materials, energy, labor, and packing. We valued all the input factors using publicly available information, as discussed in the “Surrogate Country” section of this notice.

With the exceptions of the whole live crawfish input and the crawfish shell scrap by-product, we valued the factors of production using publicly available information from India. We adjusted the Indian import prices by adding foreign inland freight expenses to make them delivered prices. Where applicable, we excluded any imports from NMEs and “unspecified” countries from the import data. We also excluded imports from Indonesia, South Korea, and Thailand because these countries maintain non-specific export subsidies. For reasons which are discussed below in more detail, the live crawfish input was valued using Spanish import data, and the crawfish shell scrap was valued using an Indonesian price quote. See Surrogate Values Memo.

In accordance with 19 CFR 351.301(c)(3)(ii), interested parties may submit publicly available information to value the factors of production no later than 20 days following the date of publication of these preliminary results.

3. Factor Valuations

We applied surrogate values to the factors of production to determine NV. We valued the factors of production as follows:

Materials

Whole, Live Crawfish. To value the input of whole live crawfish, we used publicly available data on Spanish imports of whole live crawfish from Portugal. We used Spanish import data because: (1) There is no crawfish industry in India or in any of the other countries identified in the list of countries at a level of economic development comparable to that of the PRC (See Antidumping Administrative Review and New Shipper Reviews of Freshwater Crawfish Tail Meat From the People's Republic of China (PRC): Request for a List of Surrogate Countries, dated April 30, 2004, on file in the CRU (Surrogate Countries Memo); and (2) Spain has a crawfish industry and publicly available import statistics. See e.g., Notice of Preliminary Results of Antidumping Duty New Shipper Review: Freshwater Crawfish Tail Meat From the People's Republic of China, 68 FR 7976 (February 19, 2003) and Notice of Final Results of Antidumping Duty New Shipper Review: Freshwater Crawfish Tail Meat From the People's Republic of China, 68 FR 43085 (July 21, 2003). We adjusted the values of whole live crawfish to include freight costs incurred between the supplier and the factory. For transportation distances used in the calculation of freight expenses for whole live crawfish, we added a surrogate freight cost using the shorter of (a) the distances between the closest PRC port and the factory, or (b) the distance between the domestic supplier and the factory. See Notice of Final Determination of Sales at Less Than Fair Value: Collated Roofing Nails From the People's Republic of China, 62 FR 51410 (October 1, 1997) (Roofing Nails).

Crawfish Shell Scrap. To value the by-product of crawfish shell scrap, we used a price quote from Indonesia for wet crab and shrimp shells, because (1) there is no Indian data suitable for valuing the crawfish scrap factor and (2) Indonesia is among the countries identified as an appropriate surrogate. See Memorandum to Barbara E. Tillman, Director, Office of AD/CVD Enforcement VII, through Maureen Flannery, Program Manager, from Christian Hughes and Adina Teodorescu, Case Analysts: Surrogate Valuation of Shell Scrap: Freshwater Crawfish Tail Meat From the People's Republic of China (PRC), Administrative Review 9/1/00-8/31/01 and New Shipper Reviews 9/1/00-8/31/01 and 9/1/00-10/15/01 (August 5, 2002) and Memorandum to File from Barbara E. Tillman entitled Summary of Telephone Discussion with Official of Indo Chitosan International (July 15, 2002). These documents are included in Attachment 5 to the Surrogate Values Memo. See also Surrogate Countries Memo. To achieve comparability of the scrap price to the factor reported for the POR, we adjusted this factor value to reflect inflation during the POR using the Wholesale Price Index (WPI) for Indonesia, as published in the International Financial Statistics (IFS) by the International Monetary Fund (IMF).

Energy

Coal and Electricity. To value coal, we relied upon Indian import data for steam coal from the internet version of the World Trade Atlas. For transportation distances used in the calculation of freight expenses for coal, we used the the shorter of (a) the distances between the closest PRC port and the factory, or (b) the distance between the domestic supplier and the factory. See Roofing Nails. To value electricity, we used the average of the total cost per kilowatt hour (KWH) for “Electricity for Industry” as reported in the International Energy Agency's publication, Key World Energy Statistics (2003). To achieve comparability of electricity prices to the factor reported for the POR, we adjusted this factor value to reflect inflation during the POR using the WPI for India, as published in the IFS.

Water. For water, we relied upon public information from the October 1997 Second Water Utilities Data Book: Asian and Pacific Region, published by the Asian Development Bank. To achieve comparability of water prices to the factor reported for the POR, we adjusted this factor value to reflect inflation during the POR using the WPI for India, as published in the IFS.

Packing Materials. To value packing materials (plastic bags, cardboard boxes and adhesive tape), we relied upon the most recent Indian import data for the POR as reported in the World Trade Atlas. We adjusted the values of packing materials to include freight costs incurred between the supplier and the factory. For transportation distances used in the calculation of freight expenses for packing materials, we used the shorter of (a) the distances between the closest PRC port and the factory, or (b) the distance between the domestic supplier and the factory. See Roofing Nails.

Labor

For labor, we used the PRC regression-based wage rate found on Import Administration's home page, Import Library, Expected Wages of Selected NME Countries, revised in September 2003 (updated in February 2004). See http://www.ia.ita.doc.gov/wages/01wages/01wages.html. Because of the variability of wage rates in countries with similar per capita gross domestic products, section 351.408(c)(3) of the Department's regulations requires the use of a regression-based wage rate. The source of these wage rate data on the Import Administration's Web site is the Year Book of Labour Statistics 2002, International Labour Organization (ILO), (Geneva: 2002), Chapter 5B: Wages in Manufacturing.

Factory Overhead, SG&A, and Profit

To value factory overhead, selling, general, and administrative expenses (SG&A), and profit, we used the publicly available 2002-2003 financial statement of Nekkanti Seafoods Ltd., an Indian seafood processor. We applied these rates to the calculated cost of manufacture. See Surrogate Values Memo at 5.

Transportation Expenses

We valued movement expenses as follows: to value domestic ground transport, we used freight prices published in the April 26, 2002, edition of the Iron & Steel Newsletter, which cites http://www.INFreight.com, an Indian logistics Web site that tracks freight rates for all of India. Iron & Steel Newsletter republished freight prices for shipments originating from three cities: Mumbai (Bombay), Delhi and Kolkata (Calcutta). We adjusted the rates to reflect inflation through the POR using the WPI for India from the IFS.

Currency Conversion

We made currency conversions pursuant to § 351.415 of the Department's regulations at the rates found at http://ia.ita.doc.gov/exchange/index.html.

Preliminary Results of Review

We preliminarily determine that the following dumping margin exists:

Exporter/manufacturer | Time period | Margin
Qingdao Xiyuan Refrigerate Food Co., Ltd | 9/1/02-8/31/03 | 59.98%

Cash Deposit Requirements

Upon completion of the review for Qingdao Xiyuan, bonding will no longer be permitted and cash deposits will be required. If the final results of the review remain the same as the preliminary results, the cash deposit rate for shipments produced and exported by Qingdao Xiyuan will be the total amount of antidumping duties divided by the total quantity exported during the POR. See Memorandum to File dated August 26, 2004, which places on the record of this review the Memorandum to Barbara E. Tillman through Maureen Flannery, From Mark Hoadley: Collection of Cash Deposits and Assessment of Duties on Freshwater Crawfish From the PRC, dated August 27, 2001. This cash deposit rate will be effective upon publication of the final results of this new shipper review for all shipments of freshwater crawfish tail meat from the PRC produced and exported by Qingdao Xiyuan and entered, or withdrawn from warehouse, for consumption on or after the date of publication, as provided for by section 751(a)(2)(C) of the Act. This per kilogram cash deposit rate will be equivalent to the company-specific dumping margin established in this review. For crawfish tail meat exported, but not produced by Qingdao Xiyuan, we will continue to apply the PRC-wide rate, which is currently 223.01 percent, as the cash deposit rate. Since we are rescinding the new shipper reviews of Yancheng Fuda and Siyang, upon publication of this notice in the Federal Register, we will instruct CBP that bonding is no longer permitted and that a cash deposit of 223.01 percent must be collected for all entries exported by Yancheng Fuda and Siyang.

Assessment Rates

Upon completion of this new shipper review, the Department shall determine, and CBP shall assess, antidumping duties on all appropriate entries for Qingdao Xiyuan. For assessment purposes for Qingdao Xiyuan, we calculated importer-specific assessment rates for freshwater crawfish tail meat from the PRC. We divided the total dumping margins (calculated as the difference between NV and EP) for the importer by the total quantity of subject merchandise sold to that importer during the POR. Upon completion of this review, we will direct CBP to assess antidumping duties on a per kilogram basis equivalent to the company-specific dumping margin established in this review for each entry of subject merchandise made by the importer during the POR that was produced and exported by Qingdao Xiyuan during the POR. The Department will issue appropriate assessment instructions directly to CBP within 15 days of publication of the final results of review. Since we have rescinded the new shipper reviews of Yancheng Fuda and Siyang, we will issue assessment instructions to CBP within 15 days of publication of this notice to liquidate the entries from these two companies during the POR at the cash deposit rate in effect on the date of entry.

Verification

We plan to conduct verification of Qingdao Xiyuan's questionnaire responses, as provided in section 782(i) of the Act, subsequent to the issuance of these preliminary results. We will use standard verification procedures, including on-site inspection of Qingdao Xiyuan's facilities and the examination of relevant sales and financial records. Our verification results will be summarized in a written report, a public version of which will be on file in the CRU located in room B-099 of the Main Commerce Building.

Schedule for Final Results of Review

Pursuant to 19 CFR 351.224(b), the Department will disclose calculations performed in connection with the preliminary results of the review of Qingdao Xiyuan within five days of the date of publication of this notice. Any interested party may request a hearing within 30 days of publication of this notice in accordance with §351.310(c) of the Department's regulations. Any hearing would normally be held 37 days after the publication of this notice, or the first workday thereafter, at the U.S. Department of Commerce, 14th Street and Constitution Avenue, NW., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) The party's name, address, and telephone number; (2) the number of participants; and, (3) to the extent practicable, an identification of the arguments to be raised at the hearing.

Unless otherwise notified by the Department, interested parties may submit case briefs within 30 days of the date of publication of this notice in accordance with 351.309(c)(ii) of the Department's regulations. As part of the case brief, parties are encouraged to provide a summary of the arguments not to exceed five pages and a table of statutes, regulations, and cases cited. Rebuttal briefs, which must be limited to issues raised in the case briefs, must be filed within five days after the case brief is filed. If a hearing is held, an interested party may make an affirmative presentation only on arguments included in that party's case brief and may make a rebuttal presentation only on arguments included in that party's rebuttal brief. Parties should confirm, by telephone, the time, date, and place of the hearing 48 hours before the scheduled time.

Unless the time limit is extended, the Department will issue the final results of this new shipper review no later than 90 days after the signature date of the preliminary results. The final results will include the analysis of issues raised in the briefs.

Notification to Importers

This notice serves as a reminder to importers of their responsibility under §351.402(f) of the Department's regulations to file a certificate regarding the reimbursement of antidumping duties prior to liquidation of the relevant entries during these review periods. Failure to comply with this requirement could result in the Secretary's presumption that reimbursement of antidumping duties occurred and the subsequent assessment of double antidumping duties.

With respect to Yancheng Fuda and Siyang, this notice also serves as a reminder to parties subject to administrative protective order (APO) of their responsibility concerning the disposition of proprietary information disclosed under APO in accordance with §351.305(a)(3) of the Department's regulations. Timely written notification of the return/destruction of APO materials or conversion to judicial protective order is hereby requested. Failure to comply with the regulations and the terms of an APO is a sanctionable violation.

We are issuing and publishing this determination and notice in accordance with sections 751(a)(2)(B) and 777(i)(1) of the Act.

Dated: August 26, 2004.
James J. Jochum,
Assistant Secretary for Import Administration.

[FR Doc. E4-2043 Filed 9-01-04; 8:45 am]

BILLING CODE 3510-DS-P